DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App. 2, the United States Department of Agriculture announces a meeting of the National Agricultural Research, Extension, Education, and Economics Advisory Board.

DATES: The National Agricultural Research, Extension, Education, and Economics Advisory Board will meet March 23-25, 2004.

The public may file written comments before or up to two weeks after the meeting with the contact person.

ADDRESSES: The meeting will take place at the Hotel Washington, 515 15th Street, NW., Washington, DC 20004. Written comments from the public may be sent to the Contact Person identified in this notice at: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Deborah Hanfman, Executive Director, National Agricultural Research, Extension, Education, and Economics Advisory Board; telephone: (202) 720-3684; fax: (202) 720-6199; or e-mail: dhanfman@csrees.usda.gov.

SUPPLEMENTARY INFORMATION: On Tuesday, March 23, 2004, the National Agricultural Research, Extension, Education, and Economics Advisory Board will convene its meeting at 1 p.m. in the Washington Room of the Hotel Washington. A brief business meeting of the Board will be followed by reports of three Board working groups and by USDA responses to the Board's prior written recommendations on “Obesity Prevention.” An evening reception and program to kickoff the next day's focus session titled, “Agriculture, National Resources and the Environment: Implications for Sustainable Agricultural Systems,” will be held at 7 p.m. in the Capital Room, with a keynote speaker from the W. K. Kellogg Foundation.

On Wednesday, March 24, 2004, from 7:30 a.m. to 4 p.m., the focus session will be held with briefings by USDA agencies of the Research, Education, and Economics (REE) mission area and the Natural Resources and Environment mission area. Distinguished speakers and leaders with expertise on the environment, natural resources, economics, and the social sustainability of agricultural systems will speak throughout the day. A meeting from noon to 1:30 p.m. will highlight agricultural research perspectives from Professional Majority and Minority Staff Members of the U.S. Congress House of Representatives Agriculture Committee. An informal focus session reception to highlight key issues of the day will be held from 6 p.m. to 8 p.m.

On Thursday, March 25, 2004, the Advisory Board will reconvene at 7:30 a.m. with the invited chairman of the REE Task Force to discuss progress being made on the Task Force's Congressional mandate. Wrap-up discussions on the findings of the Board's working groups and the focus session will follow. The Board will adjourn by 11:30 a.m.

Opportunities for public comment will be available at the end of each meeting day. Written comments for the public record on any of the topics discussed during the Advisory Board Meeting are welcomed before and up to two weeks following the meeting. All statements will become a part of the official record of the National Agricultural Research, Extension, Education, and Economics Advisory Board and will be kept on file for public review in the Research, Education, and Economics Advisory Board Office.

Done at Washington, DC, this 5th day of March, 2004.
Joseph J. Jen,
Under Secretary, Research, Education, and Economics.

[FR Doc. 04-5845 Filed 3-15-04; 8:45 am]

BILLING CODE 3410-22-P